DEPARTMENT OF COMMERCE

International Trade Administration

Meeting of the Manufacturing Council

AGENCY: International Trade Administration, U.S. Department of Commerce.

ACTION: Notice of an open meeting.

SUMMARY: The Manufacturing Council will hold a meeting to hear updates from the Department of Commerce in addition to the Council's ex-officio members, the Secretaries of Energy, Labor, and the Treasury (or their designees) on the Government response to past Council recommendations. At the meeting, the Board will hear and deliberate on proposed recommendations to be presented by the Workforce Development subcommittee. The Board members also will summarize all recommendations adopted throughout their 2010-2012 appointment term in a final presentation to the Secretary of Commerce.

DATES: September 28, 2012 9:30 a.m.-11:30 a.m. Eastern Daylight Time (EDT). As specified below, registration and any requests for auxiliary aids should be submitted no later than September 21, 2012.

ADDRESSES: U.S. Department of Commerce, 1401 Constitution Avenue NW., Room 4830, Washington, DC. Registration and any requests for auxiliary aids should be submitted to Jennifer Pilat, the Manufacturing Council, Room 4043, 1401 Constitution Avenue NW., Washington, DC 20230, telephone 202-482-4501, OACIE@trade.gov. Last minute requests will be accepted, but may be impossible to fill.

FOR FURTHER INFORMATION CONTACT: Jennifer Pilat, the Manufacturing Council, Room 4043, 1401 Constitution Avenue NW., Washington, DC, 20230, telephone: 202-482-4501, email: OACIE@trade.gov

SUPPLEMENTARY INFORMATION: Background: The Council was re-chartered on April 5, 2012 to advise the Secretary of Commerce on matters relating to the U.S. manufacturing industry. This will be the final meeting of the current members and will review past recommendations, the Government responses to those recommendations, and deliberate on proposed new recommendations to be presented by the Workforce Development subcommittee. The Department will publish in the near future a separate notice soliciting nominations for new appointments.

All guests are required to register in advance. This program will be physically accessible to people with disabilities. Seating is limited and will be on a first come, first served basis. As noted above, registration and any requests for auxiliary aids should be submitted no later than September 21, 2012, to Jennifer Pilat, the Manufacturing Council, Room 4043, 1401 Constitution Avenue NW., Washington, DC, 20230, telephone 202-482-4501, OACIE@trade.gov. Last minute requests will be accepted, but may be impossible to fill.

While members of the public are welcome to attend the meeting, there will not be sufficient time available for oral comments from members of the public. Any member of the public may submit pertinent written comments at any time before or after the meeting. Comments may be submitted to Jennifer Pilat at the contact information indicated above. To be considered during the meeting, comments must be received no later than 5 p.m. Eastern Time on September 21, 2012, to ensure transmission to the Council prior to the meeting. Comments received after that date will be distributed to the members but may not be considered at the meeting.

Copies of Council meeting minutes will be available within 90 days of the meeting.

Dated: September 5, 2012.
Jennifer Pilat,
Executive Secretary, The Manufacturing Council.

[FR Doc. 2012-22227 Filed 9-10-12; 8:45 am]

BILLING CODE 3510-DR-P